NUCLEAR REGULATORY COMMISSION

[Docket No. 70-1201]

Framatome ANP, Inc.; Notice of Intent To Prepare an Environmental Assessment, and Notice of Opportunity for a Hearing

AGENCY: Nuclear Regulatory Commission.

ACTION: Notice of receipt of request from Framatome ANP, Inc. to renew Special Nuclear Material License SNM-1168, Notice of intent to prepare an Environmental Assessment, and Notice of opportunity for hearing.

SUMMARY: Notice is hereby given that the U.S. Nuclear Regulatory Commission has received, by letter dated March 28, 2002, a request from Framatome ANP, Inc. to renew its NRC Special Nuclear Material License SNM-1168. This facility, located in Lynchburg, Virginia, fabricates low enriched Light Water Reactor fuel assemblies under a 10 CFR part 70 license. The NRC staff intends to prepare an Environmental Assessment for this action.

This application will be reviewed by the staff using NRC formal guidance, NUREG-1520, “Standard Review Plan for the Review of a License Application for a Fuel Cycle Facility.”

The amendment application and environmental report are available for public inspection and copying at the NRC Public Document Room, U.S. Nuclear Regulatory Commission Headquarters, Room O-1F21, 11555 Rockville Pike, Rockville, MD 20852. To obtain the application and environmental report electronically using the NRC's document system (ADAMS), the accession numbers are ML020940468 and ML020930031, respectively.

FOR FURTHER INFORMATION CONTACT: Ms. Julie Olivier, Fuel Cycle Facilities Branch, Division of Fuel Cycle Safety and Safeguards, Office of Nuclear Material Safety and Safeguards, U.S. Nuclear Regulatory Commission, Mail Stop T-8A33, Washington, DC 20555. Telephone (301) 415-8098.

Notice of Opportunity for Hearing

The NRC hereby provides notice of an opportunity for a hearing on the license renewal application under the provisions of 10 CFR part 2, subpart L, “Informal Hearing Procedures for Adjudications in Materials and Operator Licensing Proceedings.” Pursuant to § 2.1205(a), any person whose interest may be affected by this proceeding may file a request for a hearing. In accordance with § 2.1205(d), a request for hearing must be filed within 30 days of the publication of this notice in the Federal Register. The request for a hearing must be filed with the Office of the Secretary, either:

(1) By delivery to the Docketing and Service Branch of the Office of the Secretary at One White Flint North, 11555 Rockville Pike, Rockville, MD 20852; or

(2) By mail or telegram addressed to the Secretary, Nuclear Regulatory Commission, Washington, DC 20555, Attention: Docketing and Service Branch.

In accordance with 10 CFR 2.1205(f), each request for a hearing must also be served, by delivering it personally or by mail, to:

(1) The applicant, Framatome Advanced Nuclear Power, P.O. Box 11646, Lynchburg, Virginia, 24506-1646; Attention: Robert Freeman; and

(2) The NRC staff, by delivery to the Executive Director for Operations, One White Flint North, 11555 Rockville Pike, Rockville, MD 20852, or by mail addressed to the Executive Director for Operations, Nuclear Regulatory Commission, Washington, DC 20555.

In addition to meeting other applicable requirements of 10 CFR part 2 of the NRC's regulations, a request for a hearing filed by a person other than an applicant must describe in detail:

(1) The interest of the requestor in the proceeding;

(2) How that interest may be affected by the results of the proceeding, including the reasons why the requestor should be permitted a hearing, with particular reference to the factors set out in § 2.1205(h);

(3) The requestor's areas of concern about the licensing activity that is the subject matter of the proceeding; and

(4) The circumstances establishing that the request for a hearing is timely in accordance with § 2.1205(d).

The request must also set forth the specific aspect or aspects of the subject matter of the proceeding as to which the petitioner wishes a hearing.

In addition, members of the public may provide comments on the subject application within 30 days of the publication of this notice in the Federal Register. The comments may be provided to Michael Lesar, Chief, Rules Review and Directives Branch, Division of Administration Services, Office of Administration, U.S. Nuclear Regulatory Commission, Washington DC 20555.

Dated at Rockville, Maryland, this 2nd day of August 2002.
For the Nuclear Regulatory Commission.
Daniel M. Gillen,
Chief, Fuel Cycle Facilities Branch, Division of Fuel Cycle Safety and Safeguards, Office of Nuclear Material Safety and Safeguards.

[FR Doc. 02-20173 Filed 8-8-02; 8:45 am]

BILLING CODE 7590-01-P